DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency has submitted the following information collection to the Office of Management and Budget for review and clearance in accordance with the requirements of the Paperwork Reduction Act of 1995. The submission describes the nature of the information collection, the categories of respondents, the estimated burden (i.e., the time, effort and resources used by respondents to respond) and cost, and includes the actual data collection instruments the Federal Emergency Management Agency will use.

Title: National Flood Insurance Program—Mapping Needs Process Update Support System (MNUSS) Data Worksheet.

OMB Number: 1660-0081.

Abstract: To fulfill the mandate specified in section 575 of the National Flood Insurance Reform Act (NFIRA), the Federal Emergency Management Agency (FEMA) established the Mapping Needs Assessment process and the MNUSS database in order to effectively identify and document data regarding community flood hazard mapping needs. MNUSS is designed to store mapping needs at the community level. The current version of MNUSS is an interactive, web-enabled password protected database. In order to facilitate the identification and collection of communities' current flood hazard mapping needs for input into MNUSS, FEMA development the MNUSS Data Worksheet.

Flood hazard mapping needs information enable FEMA to be more responsive to ongoing changes affecting flood hazard areas that occur in communities participating in the National Flood Insurance Program (NFIP). The changes include, but are not limited to, new corporate limit boundaries, changes in the road network, and changes in flood hazard areas, which affect communities' flood risks. The information is also used in providing justification for FEMA when requesting funding for flood map updates and is used along with other information to prioritize the flood hazard mapping needs of all mapped communities participating in the NFIP to assist in the allocation of annual funds for flood hazard map updates.

Affected Public: State, local, and tribal governments.

Number of Respondents: 5,550.

Frequency of Response: Once every five years.

Hour Burden Per Response: 2.5 hours.

Comments: Interested persons are invited to submit written comments on the proposed information collection to the Office of Information and Regulatory Affairs, Office of Management Budget, Attention: Nathan Lesser, Desk Officer, Department of Homeland Security/FEMA, and sent via electronic mail to oira_submission@omb.eop.gov or faxed to (202) 395-6974. Comments must be submitted on or before December 7, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: October 31, 2006.
John A. Sharetts-Sullivan,
Chief, Records Management and Privacy, Information Resources Management Branch, Information Technology Services Division. Federal Emergency Management Agency, Department of Homeland Security.

[FR Doc. E6-18748 Filed 11-6-06; 8:45 am]

BILLING CODE 9110-12-P